DEPARTMENT OF ENERGY

Notice of Stakeholder Involvement Opportunity: Stakeholder Forum on Alternative Technologies to Incineration

AGENCY: Department of Energy.

ACTION: Notice of opportunity for involvement in early planning of forum.

SUMMARY: The Department of Energy (DOE) seeks to improve stakeholder involvement in its efforts to develop and evaluate alternative technologies to incineration for treatment of mixed transuranic and mixed low level waste. To encourage broad, diverse stakeholder participation, the Department is planning an Alternative Technologies to Incineration Stakeholder Forum in 2002.

DATES: Comments, suggestions and recommendations are requested by Spring 2002.

ADDRESSES: Comments, suggestions, and recommendations on the Stakeholder Forum should be directed to Noeleen Tillman of the Global Environment and Technology Foundation (GETF), a non-profit organization providing support for the Forum, at 7010 Little River Turnpike, Suite #460, Annandale, VA 22003; e-mail ntillman@getf.org; Telephone (703) 750-6401. Commenters are requested to provide Ms. Tillman with their name and e-mail and mailing addresses so she can follow-up as necessary.

FOR FURTHER INFORMATION CONTACT: Ms. Noeleen Tillman, Global Environment and Technology Foundation, 7010 Little River Turnpike, Suite #460, Annandale, VA 22003; e-mail ntillman@getf.org; Telephone (703) 750-6401.

SUPPLEMENTARY INFORMATION: The objectives of the Forum include: (1) To facilitate an exchange of information between technical experts, regulators, and interested stakeholders, and (2) to identify stakeholder values and concerns that the Department should consider in its technology development and evaluation process.

Topics for discussion at the Stakeholder Forum include:

• The Department of Energy's plans for developing alternative technologies to incineration. (A DOE “Action Plan” is available online at http://www.em.doe.gov/ftplink/integrat/actionplan.pdf).

• The current state of alternative technology development.

• Factors to be considered in determining the acceptability of new technologies.

• Stakeholder views regarding the benefits and drawbacks of various alternative technologies.

• Opportunities for stakeholder involvement in new technology development and evaluation.

• Federal and State regulatory processes, including permitting.

The Department invites interested stakeholders to participate early in the planning of this Stakeholder Forum. The Department requests suggestions and recommendations on the Forum's agenda, format and venue. The expected date and location will be announced later in a subsequent Federal Register notice.

Issued in Washington, D.C., on October 29, 2001.
Gerald G. Boyd,
Deputy Assistant Secretary for Science and Technology.

[FR Doc. 01-27554 Filed 11-1-01; 8:45 am]

BILLING CODE 6450-01-P